NUCLEAR REGULATORY COMMISSION

[Docket Nos. 040-09068; NRC-2008-0391]

Lost Creek ISR, LLC; Correction

AGENCY: Nuclear Regulatory Commission.

ACTION: Temporary Exemption; issuance; correction.

SUMMARY: The U.S. Nuclear Regulatory Commission (NRC) is correcting a notice that was published in the Federal Register on July 24, 2015, that gave notice to the public that it is considering issuance of a temporary exemption from certain NRC financial assurance requirements to Lost Creek ISR, LLC, for its Lost Creek In Situ Recovery (ISSR) Project in Crook County, Wyoming. This action is being taken to correct the date that the exemption expires.

DATES: This correction is effective on August 21, 2015.

ADDRESSES: Please refer to Docket ID NRC-2008-0391 when contacting the NRC about the availability of information regarding this action. You may obtain publicly-available information related to this action using any of the following methods:

• Federal Rulemaking Web site: Go to http://www.regulations.gov and search for Docket ID NRC-2008-0391. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: John Saxton, Office of Nuclear Material Safety and Safeguards, U.S. Nuclear Regulatory Commission, Washington, DC 20555-0001; telephone: 301-415-0697; email: John.Saxton@nrc.gov.

SUPPLEMENTARY INFORMATION: In the Federal Register of July 24, 2015 (80 FR 44158), on page 44160, first column, the Conclusions Section, the third sentence is corrected to read as follows: “This exemption will expire on February 10, 2017, for the Lost Creek ISR Project.”

Dated in Rockville, Maryland, this 17th day of August, 2015.
For the Nuclear Regulatory Commission.
Andrew Persinko,
Deputy Director, Division of Decommissioning, Uranium Recovery and Waste Programs, Office of Nuclear Material Safety and Safeguards.

[FR Doc. 2015-20719 Filed 8-20-15; 8:45 am]

BILLING CODE 7590-01-P